EXPORT-IMPORT BANK OF THE UNITED STATES

12 CFR Parts 403, 407 and 414

RIN 3048-ZA03

Technical Amendments

AGENCY: Export-Import Bank of the United States.

ACTION: Final rule.

SUMMARY: The Export-Import Bank of the United States (Ex-Im Bank) is amending a number of its regulations by making minor, non-substantive revisions. This rule makes the following changes: removing references to an internal committee that no longer exists, correcting the time of Board meetings, and updating contact information at the Department of Justice. The rule also establishes a new part that implements Ex-Im Bank's authority, found at 12 U.S.C. 635(a)(1), to collect reasonable fees to cover the cost of conferences, seminars and publications.

DATES: The effective date for this final is November 27, 2007.

FOR FURTHER INFORMATION CONTACT: Brian J. Sonfield, Assistant General Counsel for Administration, (202) 565-3439, brian.sonfield@exim.gov.

SUPPLEMENTARY INFORMATION:

A. Background

Ex-Im Bank recently reviewed its existing regulations to ensure that they accurately reflect the Bank's current operating procedures. The review revealed that minor, nonsubstantive revisions are necessary to part 407 (governing the public observation of Ex-Im Bank meetings) and part 403 (governing the procedures for handling and safeguarding classified information). The review also indicated the need for a regulation implementing the Bank's statutory authority to collect conference and publication fees.

B. Regulatory Changes

Part 407

This Part contains Ex-Im Bank's regulations governing the public observation of its Board of Director meetings, promulgated in part under the Government in the Sunshine Act, 5 U.S.C. 552b(g). Several provisions within this part make reference to the “Executive Committee of the Board of Directors,” an entity that no longer exists. The amendment deletes these references. A couple of provisions also make reference to regularly scheduled Board meetings as being held on Thursdays at 9 a.m. The meetings are now held at 9:30 a.m., and the amendments reflect this change.

Section 403.11

This section concerns classification, declassification and safeguarding of national security information and details enforcement and investigation procedures. Subsection 403.11(b)(12) currently requires Ex-Im Bank to consult with the Department of Justice's Criminal Division prior to taking action against an employee in connection with an unauthorized disclosure of classified information. Disclosures of classified information are now handled by the Department of Justice's National Security Division, and the amendment reflects this change.

Section 414

This new section is created to implement Ex-Im Bank's authority, pursuant to 12 U.S.C. § 635(a)(1), to collect reasonable fees to cover the costs of conferences, seminars and publications.

List of Subjects

12 CFR Part 403

Classified information.

12 CFR Part 407

Sunshine Act.

12 CFR Part 414

Exports, Government publications.

Accordingly, for the reasons stated in the preamble, Ex-Im Bank amends the Code of Federal Regulations, Title 12, Chapter IV, parts 403 and 407 as follows and adds part 414 as described below:

PART 403—CLASSIFICATION, DECLASSIFICATION, AND SAFEGUARDING OF NATIONAL SECURITY INFORMATION

1. The authority citation for part 403 continues to read as follows:

Authority: E.O. 12356, National Security Information, April 2, 1982 (3 CFR, 1982 Comp. p. 166) (hereafter referred to as the “Order”), Information Security Oversight Directive No. 1, June 25, 1982 (32 CFR Part 2001) (hereafter referred to as the “Directive”), and National Security Decision Directive 84, “Safeguarding National Security Information,” signed by the President on March 11, 1983 (hereafter referred to as “NSDD 84”).

§ 403.11 [Amended]

2. Section 403.11(b)(12) is amended by replacing the word “Criminal” with the phrase “National Security”.

PART 407—REGULATIONS GOVERNING PUBLIC OBSERVATION OF EX-IM BANK MEETINGS

3. The authority citation for part 407 continues to read as follows:

Authority: Sec. (g) Government in the Sunshine Act, 5 U.S.C. 552b(g); secs. (b) through (f), 5 U.S.C. 552b.

4. Amend § 407.1 as follows:

a. Revise paragraph (b) to read as set forth below.

b. In paragraph (c), remove “9:00” and add in its place “9:30”.

§ 407.1 Purpose, scope and definitions.

* * * * *

(b) The term meeting means any meeting of the Board of Directors of Eximbank at which a quorum is present and where deliberations determine or result in the joint conduct or disposition of official Eximbank business.

* * * * *

§ 407.2 [Amended]

5. Amend § 407.2(a) introductory text by removing the phrase “or the Executive Committee”.

§ 407.2 [Amended]

6. Amend § 407.3 as follows:

a. In paragraph (a), remove the phrase “or the Executive Committee”, and remove “9:00” and add in its place “9:30”.

b. In paragraph (b), remove the phrase “or the Executive Committee”.

§ 407.4 [Amended]

5. Amend § 407.4 by removing the phrase “or the Executive Committee” wherever it appears.

§ 407.6 [Amended]

6. Amend § 407.6 by removing the phrase “or the Executive Committee”.

7. Part 414 is added to read as follows:

PART 414—CONFERENCE AND OTHER FEES

Authority: 12 U.S.C. 635(a)(1), 5 U.S.C. 553.

§ 414.1 Collection of conference and other fees.

Ex-Im Bank may impose and collect reasonable fees to cover the costs of conferences and seminars sponsored by, and publications provided by Ex-Im Bank. Amounts received under the preceding sentence shall be credited to the fund which initially paid for such activities and shall be offset against the expenses of Ex-Im Bank for such activities.

Howard A. Schweitzer,
General Counsel.

[FR Doc. 07-5807 Filed 11-26-07; 8:45 am]

BILLING CODE 6690-01-M